DEPARTMENT OF THE INTERIOR

Office of Surface Mining Reclamation and Enforcement

Notice of Proposed Information Collection for 1029-0054, 1029-0067 and 1029-0083

AGENCY: Office of Surface Mining Reclamation and Enforcement, Interior.

ACTION: Notice and request for comments.

SUMMARY: In compliance with the Paperwork Reduction Act of 1995, the Office of Surface Mining Reclamation and Enforcement (OSM) is announcing that the information collection requests for 30 CFR part 872, Abandoned mine reclamation funds; 30 CFR part 705 and the Form OSM-23, Restriction on financial interests of State employees; and 30 CFR 955 and the Form OSM-74, Certification of Blasters in Federal program States and on Indian lands have been forwarded to the Office of Management and Budget (OMB) for review and reauthorization. The information collection packages were previously approved and assigned clearance numbers 1029-0054 for 30 CFR part 872, 1029-0067 for the OSM-23 form, and 1029-0083 for the OSM-74 form. This notice describes the nature of the information collection activities and the expected burdens and costs.

DATES: OMB has up to 60 days to approve or disapprove the information collection but may respond after 30 days. Therefore, public comments should be submitted to OMB July 25, 2002, in order to be assured of consideration.

FOR FURTHER INFORMATION CONTACT: To request a copy of the information collection requests, explanatory information and related forms, contact John A. Trelease at (202) 208-2783, or electronically to jtreleas@osmre.gov.

SUPPLEMENTARY INFORMATION: The Office of Management and Budget (OMB) regulations at 5 CFR part 1320, which implement provisions of the Paperwork Reduction Act of 1995 (Pub. L. 104-13), require that interested members of the public and affected agencies have an opportunity to comment on information collection and recordkeeping activities (see 5 CFR 1320.8(d)). OSM has submitted requests to OMB to renew its approval for the collections of information for 30 CFR part 872, Abandoned mine reclamation funds; 30 CFR part 705 and the Form OSM-23, Restriction on financial interests of State employees; and 30 CFR part 955 and the Form OSM-74, Certification of Blasters in Federal program States and on Indian lands. OSM is requesting a 3-year term of approval for these information collection activities.

An agency may not conduct or sponsor, and a person is not required to respond to, a collection of information unless it displays a currently valid OMB control number. The OMB control numbers for these collections of information are listed in 30 CFR 872.10, which is 1029-0054; on the form OSM-23 and in 30 CFR 705.10, which is 1029-0067; and on the form OSM-74 and in 30 CFR 955.10, which is 1029-0083.

As required under 5 CFR 1320.8(d), Federal Register notice soliciting comments on these collections of information was published on March 28, 2002 (67 FR 14972). No comments were received. This notice provides the public with an additional 30 days in which to comment on the following information collection activities:

Title: Abandoned mine reclamation funds, 30 CFR part 872.

OMB Control Number: 1029-0054.

Summary: 30 CFR part 872 establishes a procedure whereby States and Indian tribes submit written statements announcing the State/Tribe's decision not to submit reclamation plans, and therefore, will not be granted AML funds.

Bureau Form Number: None.

Frequency of Collection: Once.

Description of Respondents: State and Tribal abandoned mine land reclamation agencies.

Total Annual Responses: 1.

Total Annual Burden Hours: 1.

Title: Restrictions on financial interests of State employees, 30 CFR part 705.

OMB Control Number: 1029-0067.

Summary: Respondents supply information on employment and financial interests. The purpose of the collection is to ensure compliance with section 571(g) of the Surface Mining Control and Reclamation Act of 1977, which places an absolute prohibition on having a direct or indirect financial interest in underground or surface coal mining operations.

Bureau Form Number: OSM-23.

Frequency of Collection: Entrance on duty and annually.

Description of Respondents: Any State regulatory authority employee or member of advisory boards or commissions established in accordance with State law or regulation to represent multiple interests who performs any function or duty under the Surface Mining Control and Reclamation Act.

Total Annual Responses: 2,909.

Total Annual Burden Hours: 974.

Title: Certification of blasters in Federal program States and on Indian lands—30 CFR part 955.

OMB Control Number: 1029-0083.

Summary: This information is being collected to ensure that the applicants for blaster certification are qualified. This information, with blasting tests, will be used to determine the eligibility of the applicant. The affected public will be blasters who want to be certificated by the Office of Surface Mining Reclamation and Enforcement to conduct blasting on Indian lands or in Federal primacy States.

Bureau Form Number: OSM-74.

Frequency of Collection: On occasion.

Description of Respondents: Individuals intent on being certified as blasters in Federal program States and on Indian lands.

Total Annual Responses: 33.

Total Annual Burden Hours: 57.

Send comments on the need for the collection of information for the performance of the functions of the agency; the accuracy of the agency's burden estimates; ways to enhance the quality, utility and clarity of the information collection; and ways to minimize the information collection burden on respondents, such as use of automated means of collection of the information, to the following address. Please refer to the appropriate OMB control number in all correspondence, 1029-0054 for 30 CFR part 872, 1029-0067 for the OSM-23 form, and 1029-0083 for the OSM-74 form.

ADDRESSES: Office of Information and Regulatory Affairs, Office of Management and Budget, Attention: Department of Interior Desk Officer, 725 17th Street, NW., Washington, DC 20503, and to John A. Trelease, Office of Surface Mining Reclamation and Enforcement, 1951 Constitution Ave., NW., Room 210-SIB, Washington, DC, 20240.

Dated: May 29, 2002.
Richard G. Bryson,
Chief, Division of Regulatory Support.

[FR Doc. 02-15946 Filed 6-24-02; 8:45 am]

BILLING CODE 4310-05-M